DEPARTMENT OF ENERGY

Federal Energy Regulatory Commission

Combined Notice of Filings

Take notice that the Commission has received the following Natural Gas Pipeline Rate and Refund Report filings:

Docket Numbers: RP19-374-000.

Applicants: Equitrans, L.P.

Description: § 4(d) Rate Filing: Negotiated Capacity Release Agreements—12/1/2018 to be effective 12/1/2018.

Filed Date: 12/3/18.

Accession Number: 20181203-5191.

Comments Due: 5 p.m. ET 12/17/18.

Docket Numbers: RP19-375-000.

Applicants: Algonquin Gas Transmission, LLC.

Description: § 4(d) Rate Filing: Negotiated Rate—Yankee to Direct Energy 798316 to be effective 12/4/2018.

Filed Date: 12/3/18.

Accession Number: 20181203-5192.

Comments Due: 5 p.m. ET 12/17/18.

Docket Numbers: RP19-376-000.

Applicants: OkTex Pipeline Company, L.L.C.

Description: Compliance filing Compliance Filing to Implement Settlement Rates to be effective 12/1/2018.

Filed Date: 12/3/18.

Accession Number: 20181203-5209.

Comments Due: 5 p.m. ET 12/17/18.

Docket Numbers: RP19-377-000.

Applicants: White River Hub, LLC.

Description: Compliance filing Petition for Approval of Stipulation and Settlement Agreement to be effective N/A.

Filed Date: 12/3/18.

Accession Number: 20181203-5234.

Comments Due: 5 p.m. ET 12/17/18.

Docket Numbers: RP19-378-000.

Applicants: Stingray Pipeline Company, L.L.C.

Description: eTariff filing per 1430: 501-G Compliance to be effective N/A.

Filed Date: 12/3/18.

Accession Number: 20181203-5245.

Comments Due: 5 p.m. ET 12/17/18.

Docket Numbers: RP19-379-000.

Applicants: UGI Mt. Bethel Pipeline Company, LLC.

Description: Operational Purchases and Sales Report of UGI Mt. Bethel Pipeline Company, LLC under RP19-379.

Filed Date: 12/3/18.

Accession Number: 20181203-5327.

Comments Due: 5 p.m. ET 12/17/18.

Docket Numbers: RP19-380-000.

Applicants: UGI Sunbury, LLC.

Description: Operational Purchases and Sales Report of UGI Sunbury, LLC under RP19-380.

Filed Date: 12/3/18.

Accession Number: 20181203-5328.

Comments Due: 5 p.m. ET 12/17/18.

Docket Numbers: RP19-381-000.

Applicants: QEP Energy Company,Aethon III HV LLC.

Description: Joint Petition for Temporary Waivers of Capacity Release Regulations and Policies, et al. of QEP Energy Company, et al. under RP19-381.

Filed Date: 12/3/18.

Accession Number: 20181203-5335.

Comments Due: 5 p.m. ET 12/10/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 4, 2018.
Nathaniel J. Davis, Sr.,
Deputy Secretary.

[FR Doc. 2018-26813 Filed 12-11-18; 8:45 am]

BILLING CODE 6717-01-P